DEPARTMENT OF THE INTERIOR

Bureau of Land Management

[18X 1109AF LLUT930000 L16100000.DS0000.LXSSJ0650000]

Notice of Availability of the Draft Bears Ears National Monument Indian Creek and Shash Jáa Units Monument Management Plans and Associated Environmental Impact Statement, Utah

AGENCY: Bureau of Land Management, Interior.

ACTION: Notice of availability.

SUMMARY: In accordance with the National Environmental Policy Act of 1969, as amended, and the Federal Land Policy and Management Act of 1976, as amended, the Bureau of Land Management (BLM) Canyon Country District Office, in coordination with the United States Forest Service (USFS), Manti-La Sal National Forest, has prepared Draft Monument Management Plans (MMPs) and an Environmental Impact Statement (EIS) for the Bears Ears National Monument (BENM) Indian Creek and Shash Jáa Units. By this Notice, the BLM is announcing the opening of the public comment period.

DATES: To ensure that comments will be considered, the BLM must receive written comments on the BENM Draft MMPs/Draft EIS within 90 days of the date the Environmental Protection Agency publishes its Notice of Availability of the BENM Draft MMPs/Draft EIS in the Federal Register. The BLM will announce future meetings or hearings and any other public involvement activities at least 15 days in advance through public notices, media releases and/or mailings.

ADDRESSES: You may submit comments on the BENM Draft MMPs/EIS by either of these methods:

• Email: blm_ut_monticello_monuments@blm.gov

• Mail: BLM, Canyon Country District Office, 82 East Dogwood, Moab, Utah 84532, Attn: Lance Porter

Copies of the BENM Draft MMPs/Draft EIS are available at the following locations:

• Bureau of Land Management, Utah State Office, 440 West 200 South, Suite 500, Salt Lake City, Utah

• Bureau of Land Management, Monticello Field Office, 365 North Main, Monticello, Utah

• Bureau of Land Management, Canyon Country District Office, 82 E Dogwood, Moab, Utah

• Manti-La-Sal National Forest, 559 West Price River Drive, Price, Utah

The BENM Draft MMPs/Draft EIS and accompanying background documents are available on the ePlanning website at: https://goo.gl/uLrEae.

FOR FURTHER INFORMATION CONTACT: Lance Porter, District Manager, BLM Canyon Country District Office, 82 East Dogwood, Moab, UT 84532, telephone 435-259-2100 or email l50porte@blm.gov. Persons who use a telecommunications device for the deaf (TDD) may call the Federal Relay Service (FRS) at 1-800-877-8339 to contact the above individual during normal business hours. The FRS is available 24 hours a day, 7 days a week, to leave a message or question for the above individual. You will receive a reply during normal business hours.

SUPPLEMENTARY INFORMATION: On December 4, 2017, President Donald Trump signed Proclamation 9681 modifying the Bears Ears National Monument designated by Proclamation 9558 to exclude from its designation and reservation approximately 1,150,860 acres of land. The revised BENM boundary includes two units—Shash Jáa and Indian Creek Units—that are reserved for the care and management of the objects of historic and scientific interest within their boundaries. The planning area is located entirely in San Juan County, Utah and encompasses 169,289 acres of BLM-managed lands and 32,587 acres of National Forest System Lands. All of the National Forest System Lands are within the Shash Jáa Unit.

The BLM is the lead agency for the preparation of the EIS, and the Forest Service is participating as a cooperating agency.

This planning effort is needed to identify goals, objectives, and management actions necessary for the conservation, protection, restoration, or enhancement of the resources, objects, and values identified in Proclamation 9558, as modified by Proclamation 9681. The BENM is jointly managed by the BLM and USFS under the Monticello Resource Management Plan (BLM 2008), as amended, and the Manti La-Sal Land and Resource Management Plan (LRMP), as amended (USFS 1986). The MMPs would replace the existing Monticello RMP for the BLM-administered lands within the BENM, and would amend the existing Manti La-Sal LRMP for USFS-administered lands within the BENM.

Each agency will continue to manage their lands within the monument pursuant to their respective applicable legal authorities. The responsible official for the BLM is the Utah State Director; the responsible official for the USFS is the Manti-La Sal Forest Supervisor. The USFS intends to use the BLM's EIS to make its decision for the part of the Shash Jáa Unit MMP it administers. The USFS will use the BLM's administrative review procedures, as provided by the USFS 2012 Planning Rule, at 36 CFR 219.59(b).

The BLM and USFS have reviewed public scoping comments to identify planning issues that directed the formulation of alternatives and framed the scope of analysis in the Draft MMPs/Draft EIS. Issues identified include management of cultural resources, including protection of American Indian sacred sites, traditional cultural properties, and access by members of Indian tribes for traditional cultural and customary uses; recreation and access; livestock grazing; and wildlife, water, vegetation, and soil resources. This planning effort also considers management of lands with wilderness characteristics.

The Draft MMPs/Draft EIS evaluate four alternatives in detail. Alternative A is the No Action alternative, which is a continuation of existing decisions in the Monticello RMP and in the Manti-La Sal Forest Plan, to the extent that those decisions are compatible with the proclamations. Alternative B emphasizes resource protection and conservation. It is the alternative which imposes the greatest restrictions on recreation and other uses. The BLM and USFS would take a more active management approach to ensure that objects and values are conserved, protected and restored. Alternative C represents a balance among levels of restriction on recreation and other uses and emphasizes adaptive management to protect the long-term sustainability of Monument objects and values while providing for other multiple uses. Alternative D is the alternative with the least restrictive management prescriptions and utilizes a more passive management strategy, with the aim of minimizing the number of changes in the BENM. The agencies would focus on management actions that preserve objects and values but do not alter the existing character of the landscape or limit future agency discretion.

The BLM and USFS have identified Alternative D as the preferred alternative for purposes of public comment and review. Identification of this alternative, however, does not represent final agency direction, and the Proposed MMPs/Final EIS may include management actions described in the other analyzed alternatives.

BLM Utah and the USFS are soliciting comments on the entire Draft MMPs/Draft EIS. Please note that public comments and information submitted including names, street addresses, and email addresses of persons who submit comments will be available for public review and disclosure at addresses provided in the ADDRESSES section of this notice during regular business hours (8 a.m. to 4 p.m.), Monday through Friday, except holidays.

Before including your address, phone number, email address or other personal identifying information in your comment, you should be aware that your entire comment—including your personal identifying information—may be made publicly available at any time. While you may request to withhold your personal identifying information from public review, we cannot guarantee that we will be able to do so.

Authority: 40 CFR 1506.6, 40 CFR 1506.10, 43 CFR 1610.2, and 36 CFR 219.59.

Edwin L. Roberson,
State Director.

[FR Doc. 2018-17750 Filed 8-16-18; 8:45 am]

BILLING CODE 4310-DQ-P